DEPARTMENT OF HEALTH AND HUMAN SERVICES

National Institutes of Health

National Institute of Allergy and Infectious Diseases; Notice of Meeting

Pursuant to section 10(a) of the Federal Advisory Committee Act, as amended (5 U.S.C. appendix 2), notice is hereby given of a meeting of the AIDS Research Advisory Committee, NIAID.

The meeting will be open to the public, with attendance limited to space available. Individuals who plan to attend and need special assistance, such as sign language interpretation or other reasonable accommodations, should notify the Contact Person listed below in advance of the meeting.

Name of Committee: AIDS Research Advisory Committee, NIAID.

Date: August 17, 2004.

Time: 1 p.m. to 5 p.m.

Agenda: Members of the AIDS Research Advisory Committee will convene to discuss and vote on the concepts for the restructuring of the Division of AIDS clinical research effort. DAIDS leadership will identify the key changes that were made to the concepts since the May 24th meeting and reviewers will share their specific comments. The Committee will formally vote on the concepts for the Domestic and International Sites for HIV Vaccine, Prevention and Therapeutic Clinical Trials and the Leadership for HIV and AIDS Clinical Trials Networks.

Place: National Institutes of Health, 6700B Rockledge Drive, Room 1205, Bethesda, MD 20817, (Telephone Conference Call).

Contact Person: Rona L. Siskind, Executive Secretary, AIDS Research Advisory Committee, 6700-B Rockledge Drive, Room 4139, Bethesda, MD 20892-7601, 301-435-3732.

Any interested person may file written comments with the committee by forwarding the statement to the Contact Person listed on this notice. The statement should include the name, address, telephone number and when applicable, the business or profession affiliation of the interested person.

(Catalogue of Federal Domestic Assistance Program Nos. 93.855, Allergy, Immunology, and Transplantation Research; 93.856, Microbiology and Infectious Diseases Research, National Institutes of Health, HHS)
Dated: July 13, 2004.
LaVerne Y. Stringfield,
Director, Office of Federal Advisory Committee Policy.

[FR Doc. 04-16498 Filed 7-20-04; 8:45 am]

BILLING CODE 4140-01-M